DEPARTMENT OF EDUCATION

Office of Special Education and Rehabilitative Services Overview Information, Technical Assistance and Dissemination to Improve Services and Results for Children with Disabilities and Personnel Development to Improve Services and Results for Children with Disabilities—National Technical Assistance and Dissemination Center for Children Who Are Deaf-Blind Notice Inviting Applications for New Awards for Fiscal Year (FY) 2006

Catalog of Federal Domestic Assistance (CFDA) Number: 84.326T.

Dates:

Applications Available: December 22, 2005.

Deadline for Transmittal of Applications: February 10, 2006.

Deadline for Intergovernmental Review: April 11, 2006.

Eligible Applicants: State educational agencies (SEAs), local educational agencies (LEAs), public charter schools that are LEAs under State law, institutions of higher education (IHEs), other public agencies, private nonprofit organizations, outlying areas, freely associated States, Indian tribes or tribal organizations, and for-profit organizations.

Estimated Available Funds: The Administration has requested $49,397,000 for the Technical Assistance and Dissemination to Improve Services and Results for Children with Disabilities program for FY 2006, of which we intend to use an estimated $1,850,000 for the National Technical Assistance and Dissemination Center for Children who are Deaf-Blind competition. The Administration has also requested $90,626,000 for the Personnel Development to Improve Services and Results for Children with Disabilities program, of which we intend to use an estimated $250,000 to support the personnel training activities of the National Technical Assistance and Dissemination Center for Children who are Deaf-Blind. The actual levels of funding, if any, depend on final congressional action. However, we are inviting applications to allow enough time to complete the grant process if Congress appropriates funds for this program.

Maximum Award: We will reject any application that proposes a budget exceeding $2,100,000 for a single budget period of 12 months. A minimum of $250,000 must be budgeted in each budget period of 12 months for the personnel training activities described under the heading Activity Area (3) in the Priority section of this notice because the Secretary intends to support these activities of the project from funds provided under section 662 of the Individuals with Disabilities Education Act (IDEA). The Assistant Secretary for Special Education and Rehabilitative Services may change these maximum amounts through a notice published in the Federal Register.

Number of Awards: 1.

Note: The Department is not bound by any estimates in this notice.

Project Period: Up to 60 months.

Full Text of Announcement

I. Funding Opportunity Description

Purpose of Program: The Technical Assistance and Dissemination to Improve Services and Results for Children with Disabilities program promotes academic achievement and improves results for children with disabilities by supporting technical assistance, model demonstration projects, dissemination of useful information, and implementation activities that are supported by scientifically based research. The purposes of the Personnel Development to Improve Services and Results for Children with Disabilities program are to (1) help address State-identified needs for highly qualified personnel—in special education, related services, early intervention, and regular education—to work with children with disabilities; and (2) ensure that those personnel have the skills and knowledge—derived from practices that have been determined through research and experience to be successful—that are needed to serve those children.

Priority: In accordance with 34 CFR 75.105(b)(2)(v), this priority is from allowable activities specified in the statute (see sections 662(b)(2)(C), 663, and 681(d) of IDEA).

Absolute Priority: For FY 2005 this priority is an absolute priority. Under 34 CFR 75.105(c)(3), we consider only applications that meet this priority.

This priority is: National Technical Assistance and Dissemination Center for Children who are Deaf-Blind.

Background

IDEA requires that each child with a disability be provided appropriate special education and related services that meet the child's individual educational needs. For children who are deaf and blind to receive such services, intensive technical assistance is needed to enable SEAs and LEAs to appropriately address the special needs of these children. In addition, given the low-incidence nature of the deaf-blind population, many early intervention programs and educational agencies lack personnel with the training or experience to serve the unique needs of these children.

Priority

This priority supports one center (the Center) to provide specialized technical assistance, training, dissemination, and informational services to States, families, and agencies and organizations that are responsible for the provision of early intervention, special education, and related and transitional services for children through age 26 who are deaf-blind. This priority emphasizes building capacity and the implementation of systems interventions so that quality outcomes can be achieved for all children who are deaf-blind. Under this priority, the Center's activities must address gaps in the knowledge of service providers, including knowledge of evidence-based practices to improve outcomes for the deaf-blind population. The Center must accomplish this mission through a combination of activities in the following areas: (1) Technical assistance, (2) information and dissemination, and (3) personnel training.

Activity Area (1): The Center's technical assistance activities must include, but are not limited to, the following:

(a) Identifying specific project goals, objectives, and activities for providing an array of services to States, families, and agencies and organizations that are responsible for providing services to children who are deaf-blind.

(b) Assisting SEAs and LEAs, including those receiving funds under the Projects for Children who are Deaf-Blind competition—CFDA 84.326C (State Projects), and other related agencies and organizations, in developing and implementing systemic-change goals supported by available evidence-based research for children with deaf-blindness.

(c) Providing assistance to State Projects and agencies to increase the States' capacities to improve early intervention, special education, and related and transitional services to improve outcomes for children who are deaf-blind and their families.

(d) Facilitating activities and enhancing collaborative partnerships that build the capacity of children who are deaf-blind and their families for advocacy, empowerment, and increased knowledge.

(e) Communicating, collaborating, and forming partnerships as appropriate, and as directed by the Office of Special Education Programs (OSEP), with others to improve results for children who are deaf-blind and their families.

(f) Gathering, maintaining, and analyzing demographic information of children who are deaf-blind for the purpose of developing project priorities based on data documenting the needs of these children.

(g) Convening topical meetings, at the request of OSEP, to study issues and develop recommendations for addressing challenges related to issues in the field of deaf-blindness.

(h) Assisting State Projects, agencies, and organizations to strengthen collaborative partnerships with parents and families, and developing strategies to more effectively serve families representing different cultural, ethnic, and linguistic backgrounds.

(i) Assisting State Projects in identifying effective evaluation strategies for collecting and analyzing data to improve results for children.

(j) Promoting the improvement of student achievement in language arts, science, and math for children who are deaf-blind.

Activity Area (2): The Center's information and dissemination activities must include, but are not limited to, the following:

(a) Identifying, collecting, organizing, and disseminating information related to deaf-blindness, including research-based and other practices that are supported by evidence-based research that demonstrates their effectiveness in improving results for children who are deaf-blind.

(b) Responding to information requests from professionals, parents, students, institutions of higher education, and others, and developing and implementing appropriate strategies for disseminating information to under-represented groups, including those with limited English proficiency.

(c) Developing a broad, coordinated network of professionals, parents, related organizations and associations, mass media, and others for promoting awareness of issues related to deaf-blindness. This may include using the Internet and other cost-effective methods to share information with the international deaf-blindness community.

(d) Expanding and broadening the use of current informational resources by developing materials that synthesize evidence-based research, best practices, and emerging knowledge into easily understandable products with accessible formats.

(e) Developing and disseminating materials and products to supplement technical assistance and training, including synthesized research findings on relevant topics such as communication, assessments, accommodations, alternate assessments, and data analysis.

(f) Maintaining a Web site, with a dedicated URL, on which all ongoing, and completed products, as well as related information, are available in a format that meets a government or industry-recognized standard for accessibility. The Web site also must contain other features that facilitate communication and links to other Web sites that are appropriate and helpful to users.

Activity Area (3): The Center's personnel training activities must consist of activities authorized under section 662(b)(2)(C) of IDEA, including, but not limited to, the following:

(a) Implementing and maintaining an assessment of the needs of individual States and the overall needs of States to determine the array, type, and intensity of personnel training to be provided.

(b) Providing personnel training that focuses on the implementation of IDEA specific to children who are deaf-blind and their families.

(c) Providing personnel training that focuses on the implementation of research-based, effective practices that will result in improved capacity of SEAs and LEAs to provide appropriate assessment, planning, placement, and transitional services.

(d) Assisting personnel training programs to work collaboratively in order to assist a greater number of teachers and paraprofessionals. This includes facilitating career development activities by promoting internships, mentorships, and other strategies to address the shortage of leadership and highly qualified personnel in the field of deaf-blindness.

General Activities. The Center also must:

(a) Annually, provide OSEP with a report analyzing policies and emerging issues that are of significant national concern in the field of deaf-blindness. This report must include a narrative description that reflects important demographic characteristics, data, and trends;

(b) Annually, establish and implement a comprehensive system of evaluation to determine the impact of the Center's activities on children with deaf-blindness, identify relevant achievements, and identify strategies for improvement;

(c) Collaborate with the OSEP Project Officer in planning and conducting the annual Project Directors' Meeting in Washington, DC, and budget funds for that purpose; and

(d) Establish and maintain an advisory committee to assist in promoting project activities. The committee must include at least one individual with deaf-blindness, one parent of a child with deaf-blindness, one representative of an SEA, and at least three professionals with training and experience in serving children with deaf-blindness.

Fourth and Fifth Years of the Project

In deciding whether to continue funding the Center for the fourth and fifth years, the Secretary will consider the requirements of 34 CFR 75.253(a), and in addition:

(a) The recommendation of a review team consisting of experts selected by the Secretary, which review will be conducted during the last half of the project's second year in Washington, DC. Projects must budget for travel expenses associated with this one-day intensive review;

(b) The timeliness and effectiveness with which all requirements of the negotiated cooperative agreement have been or are being met by the Center.

(c) The degree to which the project promotes best practices in the area of services to children who are deaf-blind.

Waiver of Proposed Rulemaking: Under the Administrative Procedure Act (APA) (5 U.S.C. 553), the Department generally offers interested parties the opportunity to comment on a proposed priority. However, section 681(d) of IDEA makes the public comment requirements under the APA inapplicable to the priority in this notice.

Program Authority: 20 U.S.C. 1462(b)(2)(C), 1463, and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative agreement.

Estimated Available Funds: The Administration has requested $49,397,000 for the Technical Assistance and Dissemination to Improve Services and Results for Children with Disabilities program for FY 2006, of which we intend to use an estimated $1,850,000 for the National Technical Assistance and Dissemination Center for Children who are Deaf-Blind competition. The Administration has also requested $90,626,000 for the Personnel Development to Improve Services and Results for Children with Disabilities program, of which we intend to use an estimated $250,000 to support the personnel training activities of the National Technical Assistance and Dissemination Center for Children who are Deaf-Blind. The actual levels of funding, if any, depend on final congressional action. However, we are inviting applications to allow enough time to complete the grant process if Congress appropriates funds for this program.

Maximum Award: We will reject any application that proposes a budget exceeding $2,100,000 for a single budget period of 12 months. A minimum of $250,000 must be budgeted in each budget period of 12 months for the personnel training activities described under the heading Activity Area (3) in the Priority section of this notice because the Secretary intends to support these activities of the project from funds provided under section 662 of IDEA. The Assistant Secretary for Special Education and Rehabilitative Services may change these maximum amounts through a notice published in the Federal Register.

Number of Awards: 1.

Note: The Department is not bound by any estimates in this notice.

Project Period: Up to 60 months.

III. Eligibility Information

1. Eligible Applicants: SEAs, LEAs, public charter schools that are LEAs under State law, IHEs, other public agencies, private nonprofit organizations, outlying areas, freely associated States, Indian tribes or tribal organizations, and for-profit organizations.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA Number 84.326T.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (part III of the application) is where you, the applicant, address the selection criteria that reviewers use to evaluate your application. You must limit part III to the equivalent of no more than 70 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to part I, the cover sheet; part II, the budget section, including the narrative budget justification; part IV, the assurances and certifications; the one-page abstract, the resumes, the bibliography, the references, or the letters of support. However, you must include all of the application narrative in part III.

We will reject your application if:

• You apply these standards and exceed the page limit; or

• You apply other standards and exceed the equivalent of the page limit.

3. Submission Dates and Times:

Applications Available: December 22, 2005.

Deadline for Transmittal of Applications: February 10, 2006.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Deadline for Intergovernmental Review: April 11, 2006.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government wide Grants.gov Apply site in FY 2006. The National Technical Assistance and Dissemination Center for Children who are Deaf-Blind-CFDA Number 84.326T is one of the competitions included in this project. We request your participation in Grants.gov.

If you choose to submit your application electronically, you must use the Grants.gov Apply site at http://www.Grants.gov Through this site, you will be able to download a copy of the application package, complete it offline, and then upload and submit your application. You may not e-mail an electronic copy of a grant application to us.

You may access the electronic grant application for The National Technical Assistance and Dissemination Center for Children who are Deaf-Blind at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the Application for Federal Education Assistance (ED 424), Budget Information—Non-Construction Programs (ED 524), and all necessary assurances and certifications. If you choose to submit your application electronically, you must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability: If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.326T), 400 Maryland Avenue, SW., Washington, DC 20202-4260, or

By mail through a commercial carrier: U.S. Department of Education, Application Control Center—Stop 4260, Attention: (CFDA Number 84.326T), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.326T), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 4 of ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), the Department has developed measures that will yield information on various aspects of the Technical Assistance and Dissemination to Improve Services and Results for Children with Disabilities program. These measures focus on: the extent to which projects provide high quality products and services, the relevance of project products and services to educational and early intervention policy and practice, and the use of products and services to improve educational and early intervention policy and practice.

We will notify grantees if they will be required to provide any information related to these measures.

Grantees will also be required to report information on their projects' performance in annual reports to the Department (34 CFR 75.590).

VII. Agency Contact

FOR FURTHER INFORMATION CONTACT: Charles Freeman, U.S. Department of Education, 400 Maryland Avenue, SW., room 4097, Potomac Center Plaza, Washington, DC 20202-2550. Telephone: (202) 245-7347.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 19, 2005.
John H. Hager,
Assistant Secretary for Special Education and Rehabilitative Services.

[FR Doc. E5-7720 Filed 12-21-05; 8:45 am]

BILLING CODE 4000-01-P